INTERNATIONAL TRADE COMMISSION

[Investigation Nos. 701-TA-607 and 731-TA-1417 and 1419 (Preliminary)]

Steel Propane Cylinders From China and Thailand

Determinations

On the basis of the record ¹ developed in the subject investigations, the United States International Trade Commission (“Commission”) determines, pursuant to the Tariff Act of 1930 (“the Act”), that there is a reasonable indication that an industry in the United States is materially injured by reason of imports of steel propane cylinders from China and Thailand that are alleged to be sold in the United States at less than fair value (“LTFV”) and imports of steel propane cylinders from China that are allegedly subsidized by the government of China.2 3 The products subject to these investigations are provided for in heading 7311.00.00 of the Harmonized Tariff Schedule of the United States.

¹ The record is defined in sec. 207.2(f) of the Commission's Rules of Practice and Procedure (19 CFR 207.2(f)).

² Steel Propane Cylinders from the People's Republic of China, Taiwan, and Thailand: Initiation of Less-Than-Fair-Value Investigations, 83 FR 28189, June 18, 2018; Steel Propane Cylinders from China: Initiation of Countervailing Duty Investigation, 83 FR 28196, June 18, 2018.

³ Commissioner Jason Kearns not participating.

Commencement of Final Phase Investigations

Pursuant to section 207.18 of the Commission's rules, the Commission also gives notice of the commencement of the final phase of its investigations. The Commission will issue a final phase notice of scheduling, which will be published in the Federal Register as provided in section 207.21 of the Commission's rules, upon notice from the U.S. Department of Commerce (“Commerce”) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On May 22, 2018, Worthington Industries Inc., Columbus, Ohio, and Manchester Tank and Equipment, Franklin, Tennessee, filed petitions with the Commission and Commerce, alleging that an industry in the United States is materially injured or threatened with material injury by reason of subsidized imports of steel propane cylinders from China and LTFV imports of steel propane cylinders from China, Taiwan, and Thailand. Accordingly, effective May 22, 2018, the Commission, pursuant to sections 703(a) and 733(a) of the Act (19 U.S.C. 1671b(a) and 1673b(a)), instituted countervailing duty investigation No. 701-TA-607 and antidumping duty investigation Nos. 731-TA-1417-1419 (Preliminary). On June 14, 2018, petitioners withdrew the antidumping duty petition covering imports from Taiwan and the investigation was subsequently terminated.⁴

⁴ Steel Propane Cylinders from Taiwan: Termination of Less-Than-Fair-Value Investigation, 83 FR 29748, June 26, 2018; Steel Propane Cylinders from Taiwan: Termination of Investigation, 83 FR 31174, July 3, 2018.

Notice of the institution of the Commission's investigations and of a public conference to be held in connection therewith was given by posting copies of the notice in the Office of the Secretary, U.S. International Trade Commission, Washington, DC, and by publishing the notice in the Federal Register of May 29, 2018 (83 FR 24491). The conference was held in Washington, DC, on June 12, 2018, and all persons who requested the opportunity were permitted to appear in person or by counsel.

The Commission made these determinations pursuant to sections 703(a) and 733(a) of the Act (19 U.S.C. 1671b(a) and 1673b(a)). It completed and filed its determinations in these investigations on July 6, 2018. The views of the Commission are contained in USITC Publication 4804 (July 2018), entitled Steel Propane Cylinders from China and Thailand: Investigation Nos. 701-TA-607 and 731-TA-1417 and 1419 (Preliminary).

By order of the Commission.
Issued: July 6, 2018.
Jessica Mullan,
Attorney-Advisor.

[FR Doc. 2018-14886 Filed 7-11-18; 8:45 am]

BILLING CODE 7020-02-P